SOCIAL SECURITY ADMINISTRATION

Notice of Changes in Magnetic Media Filing Requirements for Form W-2 Wage Reports

AGENCY: Social Security Administration (SSA).

ACTION: Notice.

SUMMARY: Notice is hereby given that SSA will incorporate a change to its Magnetic Media Reporting and Electronic Filing (MMREF) publication under which SSA will no longer accept annual Form W-2 wage reports filed using value added networks (VANs) or dial-up networking, beginning with calendar year 2002. Instead, such wage reports shall be filed by employers or third-party preparers using SSA's Employer Services Online (ESO), 3 ½ inch diskettes, ½ inch tapes, or 3480/3490 cartridges. The MMREF publication and additional information on wage report filing can be obtained by accessing SSA's employer reporting web site at www.ssa.gov/employer or by calling 800-772-6270.

DATES: Comments must be received on or before July 15, 2001.

ADDRESSES: Comments on this change should be mailed or delivered to Norman Goldstein, Senior Financial Executive, Social Security Administration, Room 834, Altmeyer Building, Baltimore, MD 21235; or sent by telefax to (410) 966-8753.

FOR FURTHER INFORMATION CONTACT: Mark Ruley, Financial Management Analyst, Social Security Administration, Room 834, Altmeyer Building, Baltimore, MD 21235; telefax (410) 966-8753.

Dated: June 12, 2001.
Richard Harron,
Director, Division of Coverage and Support.

[FR Doc. 01-15351 Filed 6-15-01; 8:45 am]

BILLING CODE 4191-02-U